DEPARTMENT OF TRANSPORTATION

Federal Aviation Administration

14 CFR Part 39

[Docket No. FAA-2013-0521; Directorate Identifier 2013-SW-010-AD; Amendment 39-17486; AD 2013-06-51]

RIN 2120-AA64

Airworthiness Directives; Various Helicopter Models

AGENCY: Federal Aviation Administration (FAA), Department of Transportation (DOT).

ACTION: Final rule; request for comments.

SUMMARY: We are publishing a new airworthiness directive (AD) for various model helicopters with certain part-numbered and serial-numbered Goodrich externally-mounted hoists installed. This AD requires performing a cable conditioning lift and a load inspection test, deactivating or replacing any hoist that fails the load inspection test, and recording the results of the load inspection test. This AD is prompted by a report of a failure of the overload clutch resulting in an in-flight failure of a hoist containing a dummy load during a maintenance flight. These actions are intended to detect conditions that may result in failure of the hoist and injury to persons being lifted.

DATES: This AD becomes effective July 15, 2013 to all persons except those persons to whom it was made immediately effective by Emergency AD (EAD) No. 2013-06-51, issued on March 25, 2013, which contained the requirements of this AD.

The Director of the Federal Register approved the incorporation by reference of a certain document listed in this AD as of July 15, 2013.

We must receive comments on this AD by August 27, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For service information identified in this AD, contact: Goodrich Corporation, Sensors & Integrated Systems (SIS-CA), Brea, CA 92821; telephone (714) 984-1461; http://www.goodrich.com/Goodrich. You may review the referenced service information at the FAA, Office of the Regional Counsel, Southwest Region, 2601 Meacham Blvd., Room 663, Fort Worth, Texas 76137.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are issuing this AD to publish EAD No. 2013-06-51, issued on March 25, 2013, which was for helicopter models with certain part-numbered and serial-numbered Goodrich externally-mounted hoists. EAD No. 2013-06-51 was prompted by an incident that occurred during a maintenance check of a rescue hoist that lost the ability to hold the load at maximum rated capacity, causing the test load to strike the ground. A Eurocopter Deutschland GmbH (ECD) Model MBB-BK 117 C-2 helicopter picked up a dummy load of 552 lbs. to conduct a “maximum load cycle” on the rescue hoist. Initially, the cable reeled out and stopped as commanded by the winch operator; however, the cable continued to reel-out without further command by the winch operator, causing the dummy load to strike the ground. Examination of the affected hoist determined that the overload clutch had failed. EAD No. 2013-06-51 requires performing a cable conditioning lift, performing a load inspection test, and recording the results on the hoist component history card or equivalent record. The actions of EAD No. 2013-06-51 were intended to detect conditions that may result in failure of the hoist and injury to persons being lifted.

EAD No. 2013-06-51 was prompted by AD No. 2013-0065-E, issued March 14, 2013 (2013-0065-E), and superseded with AD No. 2013-0077-E, issued March 22, 2013, by the European Aviation Safety Agency (EASA), which is the Technical Agent for the Member States of the European Union. EASA issued AD 2013-0065-E to correct an unsafe condition for helicopters with certain part-numbered and serial-numbered Goodrich hoists installed. EASA advised of the report that an ECD Model MBB-BK 117 C-2 helicopter experienced an incident of its rescue hoist containing a dummy load of 552 lbs. that reeled-out without command of the operator and impacted the ground during a maintenance check flight. Examination of the affected hoist determined that the overload clutch had failed. The overload clutch design is common to many Goodrich externally-mounted rescue hoists installed on the applicable model helicopters. EASA further stated its AD action is considered an interim action and further AD action may follow.

Since we issued EAD No. 2013-06-51, EASA revised its AD with EASA AD No. 2013-0077R1, dated March 27, 2013 (2013-0077R1). In issuing AD No. 2013-0077R1, EASA changed the initial compliance time, reduced the applicability of certain model helicopters for which no EASA approvals of the hoist installation are known, and partially adopted FAA EAD No. 2013-06-51 for those helicopter models for which the FAA is the State of Design Authority. EASA continues to consider AD No. 2013-0077R1 an interim action and further AD action may follow. You may view EASA AD 2013-0077R1 at http://www.regulations.gov by searching for and locating it in Docket No. FAA-2013-0521.

In publishing this AD, we are retaining the applicability and required actions of EAD No. 2013-06-51. As we have determined that the MD Helicopters, Inc., Model MD900 helicopter is another model helicopter on which an affected hoist may be installed, we are adding that model helicopter to the applicability. This addition does not increase the economic burden on any operator nor does it increase the scope of the AD.

FAA's Determination

These helicopters have been approved by the aviation authorities of Canada, Italy, France, and Germany and are approved for operation in the United States. Pursuant to our bilateral agreement with the European countries, EASA, their technical representative, has notified us of the unsafe condition described in the EASA AD. We are issuing this AD because we evaluated all known relevant information and determined the unsafe condition exists and is likely to exist or develop on other helicopters of these same type designs.

Related Service Information

Goodrich issued Alert Service Bulletin No. 44301-10-15, dated March 8, 2013 (ASB), for certain externally-mounted rescue hoists manufactured by Goodrich Sensors & Integrated Systems. The ASB specifies inspecting and performing an operational check of the hoist. The ASB also specifies recording the performance in the hoist log and reporting the results of the test to UTC Aerospace Systems.

AD Requirements

This AD requires compliance with specified portions of the ASB to do the following before the next flight involving a hoist operation:

• Performing a cable conditioning lift;

• Performing a load inspection test;

• Deactivating or replacing any hoist that fails the load inspection test; and

• Recording the results of the load inspection test on the hoist component history card or equivalent record.

Differences Between This AD and the EASA AD

The EASA AD applies to specific model helicopters. This AD applies to all helicopters with certain Goodrich hoists installed that are type certificated in the U.S. This AD does not contain a requirement to report results to the manufacturer. The EASA AD requires complying with specific helicopter manufacturer ASBs, and this AD requires complying with the Goodrich ASB for conducting the load inspection test.

Interim Action

We consider this AD to be an interim action. Investigation of the root cause of the clutch failure is ongoing. If final action is later identified, we might consider further rulemaking.

Costs of Compliance

We estimate that this AD will affect 1,378 helicopters of U.S. Registry. We estimate that operators may incur the following costs in order to comply with this AD. It will take about 1 work-hour to perform the lift testing at an average labor rate of $85 per work-hour, for a cost per helicopter of $85 and a total cost to U.S. operators of $117,130. If necessary, replacing the hoist will take about 0.5 work-hour and required parts will cost about $95,000, for a cost per helicopter of about $95,043.

FAA's Justification and Determination of the Effective Date

The short compliance time involved is required because risk analysis of the previously described unsafe condition indicates that failure of the hoist could result in serious injury or death if the hoist is being used for human cargo. Subsequently, the required actions must be performed before the next flight involving a hoist operation.

Since it was found that immediate corrective action was required, notice and opportunity for prior public comment before issuing this AD were impracticable and contrary to the public interest and good cause existed for making Emergency AD No. 2013-06-51 effective immediately on March 25, 2013, to all known U.S. owners and operators of the specified model helicopters. These conditions still exist and the AD is hereby published, with a minor change, in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-06-51 Various Helicopter Models With The Goodrich Hoist Installed: Amendment 39-17486; Docket No. FAA-2013-0521; Directorate Identifier 2013-SW-010-AD.

(a) Applicability

This AD applies to helicopters, certificated in any category, with an externally-mounted hoist with a part number and serial number listed in Table 1 of Goodrich Alert Service Bulletin No. 44301-10-15, dated March 8, 2013 (ASB), installed, including but not limited to the following:

(1) AgustaWestland S.p.A Model A109, A109S, A109K2, A109A, A109A II, A109C, A109E, AW109SP, AB139, AW139, AB412, and AB412 EP;

(2) Bell Helicopter Textron, Inc., Model 212, 214B, 214B-1, 214ST, 412, 412CF, and 412EP;

(3) Bell Helicopter Textron Canada, Ltd., Model 429 and 430;

(4) Eurocopter France Model AS 365 N3, AS332L2, and EC225LP;

(5) Eurocopter Deutschland GmbH Model MBB-BK 117 C-2, EC135P1, EC135T1, EC135P2, EC135T2, EC135P2+, and EC135T2+;

(6) MD Helicopters, Inc., Model MD900; and

(7) Sikorsky Aircraft Corporation Model S-61L, S-61N, S-61R, S-61NM, S-70, S-70A, S-70C, S-70C(M), S-70C(M1), S-76A, S-76B, S-76C, S-76D, and S-92A helicopters.

(b) Unsafe Condition

This AD defines the unsafe condition as failure of the overload clutch resulting in in-flight failure of the hoist, which could result in injury to persons being lifted.

(c) Affected ADs

This AD publishes EAD No. 2013-06-51, issued March 25, 2013.

(d) Effective Date

This AD becomes effective July 15, 2013 to all persons except those persons to whom it was made immediately effective by EAD No. 2013-06-51, issued March 25, 2013, which contained the requirements of this AD.

(e) Compliance

You are responsible for performing each action required by this AD within the specified compliance time unless it has already been accomplished prior to that time.

(f) Required Actions

Before next flight involving a hoist operation, perform the following one-time actions:

(1) Perform a cable conditioning lift by following the Accomplishment Instructions, paragraphs 2.A. through 2.A.(2), of the ASB.

(2) Perform a load inspection test by following the Accomplishment Instructions, paragraphs 2.B. through 2.I., of the ASB. Refer to the aircraft weight and balance limitations prior to performing this test and use a balancing load if necessary to prevent helicopter rollover. Any alternate method of complying with the load inspection test must first be approved in accordance with paragraph (g) of this AD.

(3) If the hoist fails the load inspection test, deactivate or replace the hoist with an airworthy hoist.

(4) Record the result of the load inspection test on the hoist component history card or equivalent record.

(g) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2013-0077R1, dated March 27, 2013. You may view the EASA AD at http://www.regulations.gov by searching for and locating it in Docket No. FAA-2013-0521.

(i) Subject

Joint Aircraft Service Component (JASC) Code: 2500, Equipment/Furnishings.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Goodrich Alert Service Bulletin No. 44301-10-15, dated March 8, 2013.

(ii) Reserved.

(3) For Goodrich Corporation's service information identified in this AD, contact Goodrich Corporation, Sensors & Integrated Systems (SIS-CA), Brea, CA 92821; telephone (714) 984-1461; http://www.goodrich.com/Goodrich.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 13, 2013.
Kim Smith,
Directorate Manager, Rotorcraft Directorate, Aircraft Certification Service.

[FR Doc. 2013-14842 Filed 6-27-13; 8:45 am]

BILLING CODE 4910-13-P